DEPARTMENT OF TRANSPORTATION

Federal Aviation Administration

14 CFR Part 39

[Docket No. 2004-CE-01-AD; Amendment 39-13943; AD 2005-01-18]

RIN 2120-AA64

Airworthiness Directives; Raytheon Aircraft Company Beech 100, 200, and 300 Series Airplanes

AGENCY: Federal Aviation Administration (FAA), DOT.

ACTION: Final rule.

SUMMARY: The FAA adopts a new airworthiness directive (AD) to supersede AD 93-25-07, which applies to Raytheon Aircraft Company (Raytheon) Beech 100, 200, and 300 series airplanes. AD 93-25-07 currently requires you to repetitively inspect the fuselage stringers for cracks and modify at certain times depending on the number of cracked stringers. This AD is the result of FAA's policy (since 1996) to not allow airplane operation when known cracks exist in primary structure. The fuselage structure is considered primary structure and operation is currently allowed for a certain period of time if less than five fuselage stringers are cracked. Consequently, this AD retains the inspection and modification requirements of AD 93-25-07, but requires you to repair any cracked fuselage stringers. We are issuing this AD to detect and correct any cracked fuselage stringers in the rear pressure bulkhead area, which could result in structural damage to the fuselage. This damage could lead to failure of the fuselage with potential loss of control of the airplane.

DATES: This AD becomes effective on March 1, 2005.

As of March 1, 2005, the Director of the Federal Register approved the incorporation by reference of certain publications listed in the regulation.

ADDRESSES: You may get the service information identified in this AD from Raytheon Aircraft Company, 9709 E. Central, Wichita, Kansas 67201-0085; telephone: (800) 429-5372 or (316) 676-3140.

You may view the AD docket at FAA, Central Region, Office of the Regional Counsel, Attention: Rules Docket No. 2004-CE-01-AD, 901 Locust, Room 506, Kansas City, Missouri 64106. Office hours are 8 a.m. to 4 p.m., Monday through Friday, except Federal holidays.

FOR FURTHER INFORMATION CONTACT: Steven E. Potter, Aerospace Engineer, Wichita Aircraft Certification Office (ACO), FAA, 1801 Airport Road, Wichita, Kansas 67209; telephone: (316) 946-4124; facsimile: (316) 946-4107.

SUPPLEMENTARY INFORMATION:

Discussion

What events have caused this AD? Reports of cracks on the fuselage stringers in the rear pressure bulkhead area on Raytheon Beech 100, 200, and 300 series airplanes caused us to issue AD 93-25-07, Amendment 39-8773. AD 93-25-07 currently requires the following on Raytheon Beech Models 200, A200, B200, A100-1, 200C, A200C, B200C, 200CT, A200CT, B200CT, 200T, B200T, 300, B300, and B300C airplanes:

—Repetitive inspections of the fuselage stringers for cracks; and

—Modification at certain times depending on the number of cracked stringers.

What has happened since AD 93-25-07 to initiate this action? As currently written, AD 93-25-07 allows continued flight if cracks are found in less than five fuselage stringers in the area of the rear pressure bulkhead. In 1996, FAA developed policy to not allow airplane operation when known cracks exist in primary structure, unless the ability to sustain limit and ultimate load with these cracks is proven. The fuselage stringers in the area of the rear pressure bulkhead are considered primary structure.

This AD brings the actions of AD 93-25-07 in compliance with FAA policy. Therefore, FAA has determined:

—That airplane operation on the affected airplanes should not be allowed for more than 25 hours time-in-service (TIS) if less than five fuselage stringers (Stringer Nos. 5 through 11) in the rear pressure bulkhead are cracked; and

—That no operation should be allowed until modification for any airplane with five or more cracked fuselage stringers (Stringer Nos. 5 through 11) in the rear pressure bulkhead.

The FAA has also identified other airplanes that should be affected by this action.

What is the potential impact if FAA took no action? Cracked fuselage stringers in the rear pressure bulkhead area, if not detected and corrected, could result in structural damage to the fuselage. This damage could lead to failure of the fuselage with potential loss of control of the airplane.

Has FAA taken any action to this point? We issued a proposal to amend part 39 of the Federal Aviation Regulations (14 CFR part 39) to include an AD that would apply to certain Raytheon Beech 100, 200, and 300 series airplanes. This proposal was published in the Federal Register as a notice of proposed rulemaking (NPRM) on September 14, 2004 (69 FR 55369). The NPRM proposed to supersede AD 93-25-07 with a new AD that would retain the requirement of repetitively inspecting the fuselage stringers for cracks, but would require the repair of any cracked fuselage stringers. We also proposed a grace period of 25 cycles for all airplanes with less than five cracked fuselage stringers. The repetitive inspections would no longer be required when all fuselage stringers (Nos. 5 though 11) in the rear pressure bulkhead are modified.

Comments

Was the public invited to comment? We provided the public the opportunity to participate in developing this AD. We received no comments on the proposal or on the determination of the cost to the public.

Conclusion

What is FAA's final determination on this issue? We have carefully reviewed the available data and determined that air safety and the public interest require adopting the AD as proposed except for minor editorial corrections. We have determined that these minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 2,300 airplanes in the U.S. registry.

What is the cost impact of this AD on owners/operators of the affected airplanes? We estimate the following costs to accomplish each inspection:

Labor cost | Parts cost | Total cost per airplane | Total cost on U.S. operators
2 workhours × $65 per hour = $130 | No special parts necessary to do the inspection. | $130 | $130 × 2,300 = $299,000

We estimate the following costs to incorporate the fuselage stringer repair kit that will be required based on the results of each inspection. We have no way to determine the number of airplanes that may need this repair kit:

Labor cost | Parts cost | Total cost per airplane
11 workhours × $65 per hour $715 | Approximately $200 per repair kit with one to three kits necessary depending on the extent of the cracks (possible total of $600 per airplane) | Ranging from $915 per airplane to $1,315 per airplane.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2004-CE-01-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 93-25-07, Amendment 39-8773, and by adding a new AD to read as follows:

2005-01-18 Raytheon Aircraft Company: Amendment 39-13943; Docket No. 2004-CE-01-AD.

When Does This AD Become Effective?

(a) This AD becomes effective on March 1, 2005.

What Other ADs Are Affected by This Action?

(b) This AD supersedes AD 93-25-07, Amendment 39-8773.

What Airplanes Are Affected by This AD?

(c) This AD affects the following Beech airplane models and serial numbers that are certificated in any category:

Model | Serial Nos.
(1) A100-1 (U-21J) | BB-3 through BB-5
(2) 200 and B200 | BB-2 and BB-6 through BB-1462.
(3) A200 (C-12A) and A200 (C-12C) | BC-1 through BC-75 and BD-1 through BD-30.
(4) A200C (UC-12B) | BJ-1 through BJ-66.
(5) A200CT (C-12D). | BP-1, BP-22, and BP-24 through BP-51.
(6) A200CT (FWC-12D) | BP-7 through BP-11.
(7) A200CT (RC-12D) | GR-1 through GR-13.
(8) A200CT (C-12F) | BP-52 through BP-63.
(9) A200CT (RC-12G) | FC-1 and FC-3.
(10) A200CT (RC-12H) | GR-14 through GR-19.
(11) A200CT (RC-12K) | FE-1 through FE-9.
(12) A200CT (RC-12P) | FE-10 through FE-24.
(13) A200CT (RC-12K) | FE-25 through FE-31.
(14) 200C and B200C | BL-1 through BL-72 and BL-124 through BL-138.
(15) 200CT | BN-1 through BN-4 and B200CT.
(16) 200T | BT-1 through BT-38 and B200T.
(17) B200C (C-12F) | BL-73 through BL-112 and BL-118 through BL-123.
(18) B200C (C-12F) | BP-64 through BP-71.
(19) B200C (UC-12F) | BU-1 through BU-10.
(20) B200C (UC-12M) | BV-1 through BV-12.
(21) B200CT | FG-1 and FG-2.
(22) 300 | FA-1 through FA-228.
(23) 300 | FF-1 through FF-19.
(24) B300 | FL-1 through FL-103.
(25) B300C | FM-1 through FM-8.
(26) B300C | FN-1.

What Is the Unsafe Condition Presented in This AD?

(d) As currently written, AD 93-25-07 allows continued flight if cracks are found in less than five fuselage stringers in the area of the rear pressure bulkhead. In 1996, FAA developed policy to not allow airplane operation when known cracks exist in primary structure, unless the ability to sustain limit and ultimate load with these cracks is proven. The fuselage stringers in the area of the rear pressure bulkhead are considered primary structure. This AD will bring the actions of AD 93-25-07 in compliance with current FAA policy. The actions specified in this AD are intended to detect and correct any cracked fuselage stringers in the rear pressure bulkhead area, which could result in structural damage to the fuselage. This damage could lead to failure of the fuselage with potential loss of control of the airplane.

What Must I Do To Address This Problem?

(e) To address this problem, you must do the following:

Actions | Compliance | Procedures
(1) For airplanes that have been known cracks that exist in any of the aft fuselage stringer locations (No. 5 through No. 11 on both the left-hand and right-hand sides). Either modify or incorporate repairs as specified below. These cracks could have been detected through compliance with AD 93-25-07 and/or Raytheon Mandatory Service Bulletin SB 53-2472, any revision level: (i) Incorporate the applicable modification kit or kits as specified in Raytheon Mandatory Service Bulletin SB 53-2472, Rev. 4, Issued: June, 1993, Revised: July, 2003; or (ii) Incorporate external doubler repairs on all aft fuselage stringer locations (No. 5 through No. 11 on both the left-hand and right-hand sides) | If airplane has less than five known cracked stringers: Within 25 cycles after March 1, 2005 (the effective date of this AD), unless already done. If cycles are unknown, then you may divide hours time-in-service (TIS) by .75 (18.75 hours TIS ÷ .75 = 25 cycles). If airplane has five or more known cracked stringers: Before further flight after March 1, 2005 (the effective date of this AD), unless already done. AD 93-35-07 already required this. | Incorporate the modification kit(s) following the procedures in Raytheon Mandatory Service Bulletin SB 53-2472, Rev. 4, Issued: June, 1993, Revised: July, 2003. Incorporate the external doubler repairs following the procedures in the maintenance manual.
(2) For all airplanes that do not have either the modifications or repairs specified in paragraphs (e)(1)(i) and (e)(1)(ii) of this AD incorporated in all aft fuselage stringer locations (No. 5 through No. 11 on both the left-hand and right-hand sides): Inspect these aft fuselage stringers. If sealant covers the stringers, you must remove it to facilitate the required inspections and then reapplied. You may terminate the repetitive inspections when all aft fuselage stringer locations (No. 5 through No. 11 on both the left-hand and right-hand sides) are modified. | For airplanes affected by AD 93-25-07: Initially inspect at the next inspection interval required by AD 93-35-07. Repetitively inspect thereafter at intervals not to exceed 500 cycles. If cycles are unknown, then you may divide TIS by .75 (375 hours TIS ÷ .75 = 500 cycles). For airplanes not affected by AD 93-25-0-7: Initially inspect upon accumulating 2,500 cycles on the fuselage or within the next 25 cycles after March 1, 2005 (the effective date of this AD), whichever occurs later, unless already done. Repetitively inspect thereafter at intervals not to exceed 500 cycles. If cycles are unknown, then you may divide hours TIS by .75 (1,875 hours TIS ÷ .75 = 2,500 cycles; 375 hours TIS ÷ .75 = 500 cycles; and 18.75 hours TIS ÷ .75 = 25 cycles) | Inspect following the procedures in Raytheon Mandatory Service Bulletin SB 53-2472. Rev. 4, Issued: June, 1993, Revised: July, 2003.
(3) If any cracks are found during any inspection required by this AD, do one of the following: (i) Incorporate the applicable modification kit or kits as specified in Raytheon Mandatory Service Bulletin SB 53-2472, Rev. 4, Issued: June, 1993, Revised: July, 2003; or (ii) Incorporate external doubler repairs on all aft fuselage stringer locations (No. 5 through No. 22 on both the left-hand and right-hand sides) | If less than five cracked stringers are found: Within 25 cycles after March 1, 2005 (the effective date of this AD), unless already done. If cycles are unknown, then you may divide hours TIS by .75 (18.75 hours TIS ÷ .75 = 25 cycles). If five or more cracked stringers are found: Before further flight after any inspection where five cracked stringers are found, unless already done | Incorporate the modification kit(s) following the procedures in Raytheon Mandatory Service Bulletin SB 53-2472, Rev. 4, Issued: June, 1993, Revised: July, 2003. Incorporate the external doubler repairs following the procedures in the maintenance manual.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Steven E. Potter, Aerospace Engineer, Wichita Aircraft Certification Office (ACO), FAA, 1801 Airport Road, Wichita, Kansas 67209; telephone: (316) 946-4124; facsimile: (316) 946-4107.

Does This AD Incorporate Any Material by Reference?

(g) You must do the actions required by this AD following the instructions in Raytheon Mandatory Service Bulletin SB 53-2472, Rev. 4, Issued: June, 1993, Revised: July, 2003. The Director of the Federal Register approved the incorporation by reference of this service bulletin in accordance with 5 U.S.C. 552(a) and 1 CFR part 51. You may get a copy from Raytheon Aircraft Company, 9709 E. Central, Wichita, Kansas 67201-0085; telephone: (800) 429-5372 or (316) 676-3140. You may review copies at FAA, Central Region, Office of the Regional Counsel, 901 Locust, Room 506, Kansas City, Missouri 64106; or at the National Archives and Records Administration (NARA). For information on the availability of this material at NARA, call (202) 741-6030, or go to: http://www.archives.gov/federal_register/code_of_federal_regulations/ibr_locations.html.

Issued in Kansas City, Missouri, on January 7, 2005.
James E. Jackson,
Acting Manager, Small Airplane Directorate, Aircraft Certification Service.

[FR Doc. 05-716 Filed 1-18-05; 8:45 am]

BILLING CODE 4910-13-P